Title 3—

The President

Proclamation 9913 of July 26, 2019

National Korean War Veterans Armistice Day, 2019

By the President of the United States of America

A Proclamation

In 1953, the Korean Armistice Agreement ended more than 3 years of brutal fighting against communist expansionism and tyranny on the Korean Peninsula. On National Korean War Veterans Armistice Day, we honor the brave patriots who secured freedom and democracy in the Republic of Korea, and we pay tribute to the more than 23,600 Americans who were killed in action and the more than 103,000 who were wounded in that conflict.

The dedication stone at the Korean War Veterans Memorial in Washington, DC, bears the inscription: “Our Nation honors her sons and daughters who answered the call to defend a country they never knew and a people they never met.” The memorial includes an honor roll of Americans killed in action and those missing in action, and its unique design features statues of a patrol crossing a Korean rice paddy. These figures represent the heroes of our Armed Forces who valiantly served in the Land of the Morning Calm and fought on battlefields such as Inchon, the Pusan Perimeter, and the Chosin Reservoir. Today, this hauntingly beautiful memorial stands as an enduring reminder of what it costs to defend and preserve the democratic principles we hold dear.

Our ironclad alliance with the Republic of Korea was cemented when the first American troops arrived on its soil to fight for liberty and human dignity. More than six decades after the ceasefire on the Korean Peninsula, the Republic of Korea is flourishing as a prosperous and peace-loving democracy. Since the signing of the armistice at Panmunjom, the United States has worked with the Republic of Korea to preserve peace through strength. Our military, together with our allies, stands vigilant, strong, and “ready to fight tonight” on the ground, in the air, and at sea. The phrase “katchi kapshida”—“we go together”—is on the lips of every service member in Korea, representing generations of Koreans and Americans united by shared sacrifice and a willingness to uphold the cause of freedom no matter the cost.

Last month, when I walked across the military demarcation line that runs through the Demilitarized Zone, it was the first time a sitting United States President has ever entered into the territory of the Democratic People's Republic of Korea. I hope these steps will spur progress in the ongoing effort to achieve the complete and verifiable denuclearization of North Korea, establish a permanent peace on the Korean Peninsula, and continue the recovery and repatriation of remains of fallen American soldiers.

Today, we honor our Korean War veterans for service rendered to both the United States and the Republic of Korea, and we remember their families who supported them throughout. Sometimes called “The Forgotten War,” we will always remember the immeasurable cost incurred by those who fought on the Korean Peninsula. The bravery, tenacity, and selflessness of our veterans liberated the oppressed, brought peace and prosperity to a freedom-loving people, and helped forge our unshakable bonds with the Republic of Korea.

NOW, THEREFORE, I, DONALD J. TRUMP, President of the United States of America, by virtue of the authority vested in me by the Constitution and the laws of the United States, do hereby proclaim July 27, 2019, as National Korean War Veterans Armistice Day. I call upon all Americans to observe this day with appropriate ceremonies and activities that honor and give thanks to our distinguished Korean War Veterans.

IN WITNESS WHEREOF, I have hereunto set my hand this twenty-sixth day of July, in the year of our Lord two thousand nineteen, and of the Independence of the United States of America the two hundred and forty-fourth.

[FR Doc. 2019-16558

Filed 7-31-19; 8:45 am]

Billing code 3295-F9-P